DEPARTMENT OF ENERGY

Federal Energy Regulatory Commission

Combined Notice of Filings #1

Take notice that the Commission received the following exempt wholesale generator filings:

Docket Numbers: EG25-135-000.

Applicants: Calistoga Resiliency Center, LLC.

Description: Calistoga Resiliency Center, LLC submits Notice of Self-Certification of Exempt Wholesale Generator Status.

Filed Date: 2/7/25.

Accession Number: 20250207-5196.

Comment Date: 5 p.m. ET 2/28/25.

Take notice that the Commission received the following electric rate filings:

Docket Numbers: ER22-871-002; ER22-2925-002; ER22-2926-002.

Applicants: Jicarilla Storage 1 LLC, Jicarilla Solar 1 LLC, Jicarilla Solar 2 LLC.

Description: Jicarilla Solar 2 LLC, et al. submit supplemental response to FERC's 10/11/2024 deficiency letter.

Filed Date: 1/16/25.

Accession Number: 20250116-5171.

Comment Date: 5 p.m. ET 2/28/25.

Docket Numbers: ER25-438-002.

Applicants: Midcontinent Independent System Operator, Inc., Ameren Illinois Company.

Description: Tariff Amendment: Ameren Illinois Company submits tariff filing per 35.17(b): 2024-02-07_SA 4393 and SA 4394_Ameren IL-Newton 2nd Sub WCA and UCA to be effective 1/14/2025.

Filed Date: 2/7/25.

Accession Number: 20250207-5031.

Comment Date: 5 p.m. ET 2/28/25.

Docket Numbers: ER25-720-001.

Applicants: Michigan Electric Transmission Company, LLC.

Description: Tariff Amendment: Amendment to JOA, Request for Shortened Comment Period, Expedited Action to be effective 2/15/2025.

Filed Date: 2/7/25.

Accession Number: 20250207-5179.

Comment Date: 5 p.m. ET 2/28/25.

Docket Numbers: ER25-765-000.

Applicants: Beowawe Power, LLC.

Description: Amendment to 12/19/2024, Beowawe Power, LLC tariff filing.

Filed Date: 2/4/25.

Accession Number: 20250204-5222.

Comment Date: 5 p.m. ET 2/18/25.

Docket Numbers: ER25-1175-000.

Applicants: Chalk Bluff Solar Energy LLC.

Description: Request for Prospective Tariff Waiver of Chalk Bluff Solar Energy LLC.

Filed Date: 1/31/25.

Accession Number: 20250131-5559.

Comment Date: 5 p.m. ET 2/21/25.

Docket Numbers: ER25-1242-000.

Applicants: New York Independent System Operator, Inc., Niagara Mohawk Power Corporation.

Description: § 205(d) Rate Filing: New York Independent System Operator, Inc. submits tariff filing per 35.13(a)(2)(iii: NYISO—National Grid Joint 205: 2nd Amended SGIA Branscomb Solar SA2557 to be effective 1/27/2025.

Filed Date: 2/7/25.

Accession Number: 20250207-5026.

Comment Date: 5 p.m. ET 2/28/25.

Docket Numbers: ER25-1243-000.

Applicants: AEP Texas Inc.

Description: § 205(d) Rate Filing: AEPTX—Las Majadas Wind Farm 2nd Amended Generation Interconnection Agreement to be effective 1/20/2025.

Filed Date: 2/7/25.

Accession Number: 20250207-5057.

Comment Date: 5 p.m. ET 2/28/25.

Docket Numbers: ER25-1244-000.

Applicants: Southwest Power Pool, Inc.

Description: Tariff Amendment: 2827R8 KPP and Evergy Kansas Central Meter Agent Agreement Cancellation to be effective 1/1/2025.

Filed Date: 2/7/25.

Accession Number: 20250207-5060.

Comment Date: 5 p.m. ET 2/28/25.

Docket Numbers: ER25-1245-000.

Applicants: Southern California Edison Company.

Description: § 205(d) Rate Filing: Amended GIA, Mountain View I/II (WDT1012/WDT1013, SA 1165) + Cancel eTariff to be effective 2/8/2025.

Filed Date: 2/7/25.

Accession Number: 20250207-5085.

Comment Date: 5 p.m. ET 2/28/25.

Docket Numbers: ER25-1246-000.

Applicants: PJM Interconnection, L.L.C.

Description: Tariff Amendment: Notice of Cancellation of ISA, SA No. 6256; Queue No. AE1-044 to be effective 4/9/2025.

Filed Date: 2/7/25.

Accession Number: 20250207-5086.

Comment Date: 5 p.m. ET 2/28/25.

Docket Numbers: ER25-1247-000.

Applicants: Public Service Company of Colorado.

Description: § 205(d) Rate Filing: 2025-02-07 PSC-SMS1-PLGIA-631—DRAFT NOC to be effective 1/29/2025.

Filed Date: 2/7/25.

Accession Number: 20250207-5087.

Comment Date: 5 p.m. ET 2/28/25.

Docket Numbers: ER25-1248-000.

Applicants: PJM Interconnection, L.L.C.

Description: § 205(d) Rate Filing: Revisions to OA, Schedule 12 & RAA, Schedule 17 RE: 4Q 2024 Member Lists to be effective 12/31/2024.

Filed Date: 2/7/25.

Accession Number: 20250207-5112.

Comment Date: 5 p.m. ET 2/28/25.

Docket Numbers: ER25-1249-000.

Applicants: Midcontinent Independent System Operator, Inc.

Description: § 205(d) Rate Filing: 2025-02-07_Att X, App 6—Inverter-Based Resource Performance Standards to be effective 4/9/2025.

Filed Date: 2/7/25.

Accession Number: 20250207-5125.

Comment Date: 5 p.m. ET 2/28/25.

Docket Numbers: ER25-1250-000.

Applicants: Southern California Edison Company.

Description: Tariff Amendment: Terminate 23 GIAs & DSAs, SCE GBU Solar Program Projects (See Tariff Sections) to be effective 2/8/2025.

Filed Date: 2/7/25.

Accession Number: 20250207-5127.

Comment Date: 5 p.m. ET 2/28/25.

Docket Numbers: ER25-1251-000.

Applicants: Midcontinent Independent System Operator, Inc.

Description: § 205(d) Rate Filing: 2025-02-07_SA 3474 ATXI—Pana Solar 1st Rev GIA (J912) to be effective 4/9/2025.

Filed Date: 2/7/25.

Accession Number: 20250207-5143.

Comment Date: 5 p.m. ET 2/28/25.

Docket Numbers: ER25-1252-000.

Applicants: ISO New England Inc., New England Power Company.

Description: § 205(d) Rate Filing: ISO New England Inc. submits tariff filing per 35.13(a)(2)(iii: Metered Quantity for Settlement Rules and Notice of SATOA Effective Date to be effective 4/9/2025.

Filed Date: 2/7/25.

Accession Number: 20250207-5155.

Comment Date: 5 p.m. ET 2/28/25.

Docket Numbers: ER25-1253-000.

Applicants: Duke Energy Carolinas, LLC.

Description: § 205(d) Rate Filing: DEC-DESC Dynamic Transfer Agmt RS No. 682 to be effective 4/10/2025.

Filed Date: 2/7/25.

Accession Number: 20250207-5199.

Comment Date: 5 p.m. ET 2/28/25.

Docket Numbers: ER25-1254-000.

Applicants: ISO New England Inc.

Description: ISO New England Inc. submits Capital Budget Quarterly Filing for Fourth Quarter of 2024.

Filed Date: 2/7/25.

Accession Number: 20250207-5202.

Comment Date: 5 p.m. ET 2/28/25.

Docket Numbers: ER25-1255-000.

Applicants: Palo Duro Wind, LLC.

Description: § 205(d) Rate Filing: Application for Market-Based Rate Authorization to be effective 4/9/2025.

Filed Date: 2/7/25.

Accession Number: 20250207-5204.

Comment Date: 5 p.m. ET 2/28/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 7, 2025.
Carlos D. Clay,
Deputy Secretary.

[FR Doc. 2025-02579 Filed 2-12-25; 8:45 am]

BILLING CODE 6717-01-P